ENVIRONMENTAL PROTECTION AGENCY

[FRL-8736-4]

Child-Specific Exposure Factors Handbook

AGENCY: Environmental Protection Agency (EPA).

ACTION: Notice of availability.

SUMMARY: EPA is announcing the availability of a final report titled, “Child-Specific Exposure Factors Handbook” (EPA/600/R-06/096F), which was prepared by the National Center for Environmental Assessment (NCEA) within EPA's Office of Research and Development (ORD). This report updates a 2002 interim final version of the handbook. It provides updated information on various physiological and behavioral factors used in assessing children's exposure to environmental contaminants. These factors include: Water ingestion; soil ingestion and non-dietary factors; inhalation rates; dermal factors including skin surface area and soil adherence factors; consumption of retail and home-grown foods; breast milk intake; body weight; activity pattern data; and consumer product use. This updated version also provides analysis of exposure factors data using the age groups for children as recommended in the 2005 EPA Risk Assessment Forum report document titled, “Guidance on Selecting Age Groups for Monitoring and Assessing Childhood Exposures to Environmental Contaminants” (71 FR 6775, February 9, 2006).

ADDRESSES: The document is available electronically through the NCEA Web site at http://www.epa.gov/ncea or you may access the document directly at http://cfpub.epa.gov/ncea/cfm/recordisplay.cfm?deid=199243. In the near future, a limited number of CD-ROMs and hard copies of the executive summary will be available from EPA's National Service Center for Environmental Publications (NSCEP), P.O. Box 42419, Cincinnati, OH 45242; telephone: 1-800-490-9198; facsimile: 301-604-3408; e-mail: nscep@bps-lmit.com. Please provide your name, your mailing address, the title and the EPA number of the requested publication.

FOR FURTHER INFORMATION CONTACT: The Information Management Team, National Center for Environmental Assessment (8601P), U.S. Environmental Protection Agency, 1200 Pennsylvania Avenue, NW., Washington, DC 20460. Telephone: 703-347-8561; fax: 703-347-8691; e-mail: nceadc.comment@epa.gov.

Dated: October 22, 2008.
Rebecca Clark,
Director, National Center for Environmental Assessment.

[FR Doc. E8-25908 Filed 10-29-08; 8:45 am]

BILLING CODE 6560-50-P